DEPARTMENT OF ENERGY

Federal Energy Regulatory Commission

Notice of Surrender of Preliminary Permits

March 10, 2004.

Symbiotics, LLC, Lake Bistineau Hydro, LLC, Chittenden Hydro, LLC, Mohawk Hydro, LLC, Dover Hydro, LLC, Bridgeport Hydro, LLC, Arbuckle Hydro, LLC, Rathbun Hydro, LLC, Avalon Hydro, LLC, DeGray Hydro, LLC, Bayview Hydro, LLC, Pleasant Hill Hydro, LLC, Wills Creek Hydro, LLC, Bumping Lake Hydro, LLC, Lower Anacoco Hydro, LLC, Project Nos. 11915-001, 12230-001, 12273-001, 12290-001, 12300-001, 12182-001, 12211-001, 12258-001, 12216-001, 12256-001, 12284-001, 12292-001, 12180-001, 12188-001 and 12234-001.

Take notice that the permittees for the subject projects have requested to surrender their preliminary permits. Investigations and feasibility studies have shown that the projects would not be economically feasible.

Project No. | Project name | Stream | State | Expiration date
11915-001 | Willamette Fall | Willamette River | OR | 09-30-2005
12230-001 | Lake Bistineau Dam | Loggy Bayou | LA | 10-31-2005
12273-001 | Hiram M Chittenden Dam | Lake Washington Ship Canal | WA | 01-31-2006
12290-001 | Mohawk Dam | Walhonding River | OH | 01-31-2006
12300-001 | Dover Dam | Tuscarawas River | OH | 10-31-2005
12182-001 | Bridgeport Dam | East Walker River | CA | 08-31-2006
12211-001 | Arbuckle Dam | Rock Creek | OK | 05-31-2006
12258-001 | Rathbun Dam | Chariton River | IA | 09-30-2005
12216-001 | Avalon Dam | Pecos River | NM | 11-30-2005
12256-001 | DeGray Reregulating Dam | Caddo River | AR | 12-31-2005
12284-001 | Bayview Lake Dam | Village Creek | AL | 10-31-2005
12292-001 | Pleasant Hill Dam | Clear Fork Branch of the Mohican River | OH | 10-31-2005
12180-001 | Wills Creek Dam | Wills Creek | OH | 09-30-2005
12188-001 | Bumping Lake Dam | Bumping River | WA | 08-31-2006
12234-001 | Lower Anacoco Dam | Bayou Anacoco | LA | 08-31-2006

The permits shall remain in effect through the thirtieth day after issuance of this notice unless that day is Saturday, Sunday, or holiday as described in 18 CFR 385.2007, in which case each permit shall remain in effect through the first business day following that day. New applications involving these project sites, to the extent provided for under 18 CFR part 4, may be filed on the next business day.

Magalie R. Salas,
Secretary.

[FR Doc. E4-597 Filed 3-15-04; 8:45 am]

BILLING CODE 6717-01-P